DEPARTMENT OF TRANSPORTATION

Federal Aviation Administration

Notice of Intent To Rule on Request to Release Airport Property From Aeronautical Use at the Grand Junction Regional Airport, Grand Junction, Colorado

AGENCY: Federal Aviation Administration (FAA), DOT.

ACTION: Notice of request to release airport property from aeronautical use.

SUMMARY: The FAA proposes to rule and invite public comment on the release of land from aeronautical use at the Grand Junction Regional Airport under the provisions of Section 125 of the Wendell H. Ford Aviation Investment Reform Act for the 21st Century (AIR 21), now 49 U.S.C. 47107(h)(2).

DATES: Comments must be received on or before April 8, 2015.

ADDRESSES: Comments on this application may be mailed or delivered to the FAA at the following address: Mr. John P. Bauer, Manager, Federal Aviation Administration, Northwest Mountain Region, Airports Division, Denver Airports District Office, 26805 E. 68th Avenue, Suite 224, Denver, Colorado 80249-6361.

In addition, one copy of any comments submitted to the FAA must be mailed or delivered to Mr. Ben Johnson, Interim Airport Manager, Grand Junction Regional Airport, Grand Junction, Colorado, at the following address: Mr. Ben Johnson, Interim Airport Manager, Grand Junction Regional Airport, 2828 Walker Field Drive, Suite 301, Grand Junction, Colorado 81506.

FOR FURTHER INFORMATION CONTACT: Mr. Marc Miller, Colorado Engineer/Compliance Specialist, Federal Aviation Administration, Northwest Mountain Region, Denver Airports District Office, 26805 E. 68th Avenue, Suite 224, Denver, Colorado 80249-6361.

The request to release property may be reviewed, by appointment, in person at this same location.

SUPPLEMENTARY INFORMATION: The FAA invites public comment on the request to release property at the Grand Junction Regional Airport under the provisions of the AIR 21 (49 U.S.C. 47107(h)(2)).

The FAA Modernization and Reform Act of 2012, HR 658, Section 817, gave the Secretary of Transportation the authorization to grant an airport, city, or county release from any of the terms, conditions, reservations, or restrictions contained in a deed under which the United States conveyed to the airport, city, or county an interest in real property for airport purposes pursuant to Section 16 of the Federal Airport Act (60 Stat. 179) or Section 23 of the Airport and Airway Development Act of 1970 (84 Stat. 232).

On March 2, 2015, the FAA determined that the request to release property from aeronautical use at the Grand Junction Regional Airport submitted by the Grand Junction Regional Airport Authority meets the procedural requirements of the Federal Aviation Administration. The FAA may approve the request, in whole or in part, no later than April 8, 2015.

The following is a brief overview of the request:

The Grand Junction Regional Airport Authority is proposing the release from the aeronautical use terms, conditions, reservations, and restrictions on 37.057 acres parcel of property conveyed to the City of Grand Junction on September 14, 1951 pursuant to Section 16 of the Federal Airport Act. All Section 16 property at the airport was subsequently conveyed by the City of Grand Junction to the Walker Field, Colorado, Public Airport Authority by Warranty Deed dated March 24, 1975. On August 26, 1988, 18 acres (parcels F, G, I, J, and K) of the subject property was granted a deed of release by the FAA to be released from aeronautical use, and leased at fair market value in generating airport revenue. In 2008, the airport access road adjacent to the parcels previously released was upgraded and realigned. Based on the new alignment the 18 acres previously released in 1988 are included in this proposed release of 37 acres as they overlap with the current layout. The proposed release would allow for future non-aeronautical uses that may include mixed-use commercial, restaurants, hotels, retail shops, industrial and manufacturing, which are permitted under the current Planned Airport Development zoning. The proceeds from the leasing of the property will be at fair market value and the sponsor will utilize the revenue to reinvest into future airport development.

Any person may inspect, by appointment, the request in person at the FAA office listed above under FOR FURTHER INFORMATION CONTACT.

In addition, any person may, upon appointment and request, inspect the application, notice and other documents germane to the application in person at the Grand Junction Regional Airport.

Issued in Denver, Colorado, on March 2, 2015.
John P. Bauer,
Manager, Denver Airports District Office.

[FR Doc. 2015-05408 Filed 3-6-15; 8:45 am]

BILLING CODE 4910-13-P